DEPARTMENT OF TRANSPORTATION

Federal Aviation Administration

14 CFR Part 39

[Docket No. 99-SW-42-AD; Amendment 39-11858; AD 2000-16-04]

RIN 2120-AA64

Airworthiness Directives; Bell Helicopter Textron Canada (BHTC) Model 430 Helicopters

AGENCY: Federal Aviation Administration, DOT.

ACTION: Final rule.

SUMMARY: This amendment supersedes an existing airworthiness directive (AD) for BHTC Model 430 helicopters. That AD currently requires inspecting all four main rotor adapter assemblies for evidence of flapping and lead-lag contact. That AD also requires installing a never-exceed-velocity (VNE) placard with markings on the airspeed indicator glass and instrument case and revising the rotorcraft flight manual (RFM) to reflect the airspeed revision. This amendment provides mandatory terminating action for requirements of that AD by replacing the fluidlastic damper blade sets with improved sets that incorporate a pressure indicator to detect loss of damper fluid. This amendment is prompted by the need for a positive means of detecting loss of damper fluid that could result in main rotor tip path plane separation. The actions specified by this AD are intended to prevent increased vibrations, damage to the main rotor system, and subsequent loss of control of the helicopter.

DATES: Effective September 19, 2000.

The incorporation by reference of certain publications listed in the regulations is approved by the Director of the Federal Register as of September 19, 2000.

The incorporation by reference of Bell Helicopter Textron Canada Alert Service Bulletin 430-97-2, dated July 11, 1997, listed in the regulations, was approved previously by the Director of the Federal Register as of October 24, 1997 (62 FR 52653, October 9, 1997).

ADDRESSES: The service information referenced in this AD may be obtained from Bell Helicopter Textron Canada, 12,800 Rue de l'Avenir, Mirabel, Quebec JON1LO, telephone (800) 463-3036, fax (514) 433-0272. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Sharon Miles, Aviation Safety Engineer, FAA, Rotorcraft Directorate, Regulations Group, Fort Worth, Texas 76193-0111, telephone (817) 222-5122, fax (817) 222-5961.

SUPPLEMENTARY INFORMATION: A proposal to amend part 39 of the Federal Aviation Regulations (14 CFR part 39) by superseding AD 97-15-16, Amendment 39-10152 (62 FR 52653, October 9, 1997), which applies to BHTC Model 430 helicopters, was published in the Federal Register on May 9, 2000 (65 FR 26783). That action proposed a mandatory terminating action for the requirements of AD 97-15-16 of replacing the fluidlastic damper blade sets with improved sets that incorporate a pressure indicator to detect loss of damper fluid.

Interested persons have been afforded an opportunity to participate in the making of this amendment. No comments were received on the proposal or the FAA's determination of the cost to the public. The FAA has determined that air safety and the public interest require the adoption of the rule as proposed.

The FAA estimates that 7 helicopters of U.S. registry will be affected by this AD, that it will take approximately 11 work hours per helicopter to accomplish the required actions, and that the average labor rate is $60 per work hour. Required parts will cost approximately $122,945 per set of 4. Based on these figures, the total cost impact of this AD on U.S. operators is estimated to be $865,235 to replace the damper blade sets in the entire fleet.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-10152 (62 FR 52653, October 9, 1997), and by adding a new airworthiness directive (AD), Amendment 39-11858, to read as follows:

2000-16-04 Bell Helicopter Textron Canada: Amendment 39-11858. Docket No. 99-SW-42-AD. Supersedes AD 97-15-16, Amendment 39-10152, Docket No. 97-SW-24-AD.

Applicability: Model 430 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent tip path plane separation, increased vibrations, damage to the main rotor system, and subsequent loss of control of the helicopter, accomplish the following:

(a) Before further flight:

(1) Inspect all four main rotor adapter assemblies for flapping contact between the adapter liners and the upper stop assembly plugs. Refer to Figures 1, 2, and 3 of the Accomplishment Instructions of Bell Helicopter Textron Canada (BHTC) Alert Service Bulletin (ASB) No. 430-97-2, dated July 11, 1997. Flapping contact is indicated by the scrubbing (or smudging) of the adapter liner surface, characteristic of relative motion between the surfaces of the adapter lines and upper stop assembly plugs.

(2) Inspect all four main rotor adapter assemblies for lead-lag contact between the adapter pads and the yoke assembly. Refer to Figures 1 and 2 of the Accomplishment Instructions of BHTC ASB No. 430-97-2, dated July 11, 1997. Lead-lag contact is indicated by a permanent indentation or split in the surface of the adapter pads.

(3) If the inspections in paragraphs (a)(1) or (a)(2) of this AD reveal that there has been contact, inspect and replace the main rotor yoke and stop assemblies in accordance with Part I, No. 3 of the Accomplishment Instructions of BHTC ASB No. 430-97-2, dated July 11, 1997, except return of any damaged upper stops to the manufacturer is not required.

(4) For helicopters with skid landing gear or retractable landing gear, remove the existing never-exceed-velocity (VNE) placard from the overhead console and install VNE placard, P/N 430-075-208-107, or P/N 430-075-208-109, as applicable, in accordance with Part II, of the Accomplishment Instructions of BHTC ASB No. 430-97-2, dated July 11, 1997.

(5) Install on each airspeed indicator a red arc between 120 knots and 150 knots to indicate that airspeeds above 120 knots indicated airspeed are prohibited. Install a slippage mark on each airspeed indicator glass and instrument case.

(6) Insert the temporary revisions, BHT-430-FM-1 and BHT-430-FMS-1, as appropriate, both dated July 7, 1997, into the rotorcraft flight manual.

(b) Within 100 hours time-in-service,

(1) Remove the fluidlastic damper blade set, P/N 430-310-100-101 or 430-310-107-101 in accordance with the Accomplishment Instructions of ASB 430-97-4, dated December 19, 1997, Part 1, steps 1 through 5, and install damper blade set, P/N 430-310-104-105, in accordance with the Accomplishment Instructions, Part I, of BHTC ASB 430-98-8, dated December 31, 1998.

(2) Return pilot and copilot airspeed indicators to their original configuration by removing the markings specified by paragraph (a)(5) of this AD.

(3) Remove the temporary revisions, BHT 430-FM-1 or BHT-430-FMS-1, as appropriate, both dated July 7, 1997. Insert the temporary revisions, BHT-430-FM-1, or BHT-430-FMS-1, as appropriate, both dated December 11, 1998, into the rotorcraft flight manual.

(c) If paragraph (b)(1) was previously accomplished by installation of fluidlastic damper blade set, P/N 430-310-104-103, remove fluidlastic damper blade set, P/N 430-310-104-103, and install fluidlastic damper blade set, P/N 430-310-104-105, in accordance with the Accomplishment Instructions of BHTC ASB 430-98-8, dated December 31, 1998.

(d) An alternative method of compliance or adjustment of the compliance time that provides an acceptable level of safety may be used if approved by the Manager, Regulations Group, FAA, Rotorcraft Directorate, FAA. Operators shall submit their requests through an FAA Principal Maintenance Inspector, who may concur or comment and then send it to the Manager, Regulations Group.

Note 2: Information concerning the existence of approved alternative methods of compliance with this AD, if any, may be obtained from the Regulations Group.

(e) Special flight permits may be issued in accordance with sections 21.197 and 21.199 of the Federal Aviation Regulations (14 CFR 21.197 and 21.199) to operate the helicopter to a location where the requirements of this AD can be accomplished.

(f) The main rotor adapter assembly inspections and replacement and the placard modifications shall be done in accordance with Part I, No. 3, and Part II of the Accomplishment Instructions and references to Figures 1, 2, and 3 in Bell Helicopter Textron Canada Alert Service Bulletin No. 430-97-2, dated July 11, 1997. The incorporation by reference of that document was approved previously by the Director of the Federal Register in accordance with 5 U.S.C. 552(a) and 1 CFR part 51, as of October 24, 1997 (62 FR 52653, October 9, 1997). The removal of certain fluidlastic damper blade sets shall be done in accordance with the Accomplishment Instructions of Bell Helicopter Textron Canada Alert Service Bulletin 430-97-4, dated December 19, 1997, Part 1, steps 1 through 5. The removal and installation of certain damper blade sets shall be done in accordance with the Accomplishment Instructions of Bell Helicopter Textron Canada Alert Service Bulletin No. 430-98-8, dated December 31, 1998. The incorporation by reference of those documents was approved by the Director of the Federal Register in accordance with 5 U.S.C. 552(a) and 1 CFR part 51. Copies may be obtained from Bell Helicopter Textron Canada, 12,800 Rue de l'Avenir, Mirabel, Quebec JON1LO, telephone (800) 463-3036, fax (514) 433-0272. Copies may be inspected at the FAA, Office of the Regional Counsel, Southwest Region, 2601 Meacham Blvd., Room 663, Fort Worth, Texas; or at the Office of the Federal Register, 800 North Capitol Street, NW., suite 700, Washington, DC.

(g) This amendment becomes effective on September 19, 2000.

Note 3: The subject of this AD is addressed in Transport Canada (Canada) AD No. CF-97-23R1, dated March 30, 1999.

Issued in Fort Worth, Texas, on August 2, 2000.
Henry A. Armstrong,
Manager, Rotorcraft Directorate, Aircraft Certification Service.

[FR Doc. 00-20403 Filed 8-14-00; 8:45 am]

BILLING CODE 4910-13-U